ENVIRONMENTAL PROTECTION AGENCY

[FRL-8722-6]

Science Advisory Board Staff Office; Notification of a Public Teleconference of the Homeland Security Advisory Committee

AGENCY: Environmental Protection Agency (EPA).

ACTION: Notice.

SUMMARY: The Environmental Protection Agency (EPA or Agency) Science Advisory Board (SAB) Staff Office announces a public teleconference for the Agency and its federal partners to brief the Homeland Security Advisory Committee (HSAC) on their progress in developing the Environmental Response Technical Assistance Document for Bacillus anthracis Terrorism Incidents (ERTAD).

DATES: The public teleconference will be held on Wednesday, October 15, 2008, from 1 p.m. to 3 p.m. (Eastern time).

Location: The public teleconference will be conducted by telephone only.

FOR FURTHER INFORMATION CONTACT: Members of the public who wish to obtain further information regarding this public teleconference meeting should contact Ms. Vivian Turner, Designated Federal Officer, by telephone: (202) 343-9697 or e-mail at turner.vivian@epa.gov. The SAB mailing address is U.S. EPA Science Advisory Board (1400F), U.S. Environmental Protection Agency, 1200 Pennsylvania Avenue, NW., Washington, DC 20460. General information about the SAB as well as any updates concerning this request for nominations may be found on the SAB Web site at http://www.epa.gov/sab.

SUPPLEMENTARY INFORMATION: The SAB was established by 42 U.S.C. 4365 to provide independent scientific and technical advice to the EPA Administrator on the technical basis for Agency policies and regulations. The SAB is a Federal Advisory Committee chartered under the Federal Advisory Committee Act (FACA), as amended, 5 U.S.C., App. The SAB will comply with the provisions of FACA and all appropriate SAB Staff Office procedural policies. The SAB HSAC provides scientific and technical advice to the EPA Administrator through the chartered SAB on scientific matters pertaining to EPA's mission in protecting against the environmental and health consequences of terrorism.

EPA's Office of Solid Waste and Emergency Response (OSWER) is charged with preserving and restoring the land by using innovative waste management practices and cleaning up contaminated properties to reduce risks posed by harmful substances. EPA has a major role in reducing the risk to human health and the environment posed by accidental or intentional releases of harmful substances. For emergency preparedness, response and homeland security, EPA works closely with sixteen other federal agencies on the Federal Government National Response Team (NRT). The NRT has asked OSWER to request consultative advice from the SAB HSAC on the Environmental Response Technical Assistance Document for Bacillus anthracis Terrorism Incidents (ERTAD) (Formerly known as the Draft Federal Inter-Agency Anthrax Technical Assistance Document (TAD)). The TAD was initially an interim technical resource document developed in response to the 2001 anthrax incidents (Draft Federal Inter-Agency Anthrax Technical Assistance Document). The NRT requested the Weapons of Mass Destruction (WMD) Subcommittee to the Science and Technology Committee to revise the TAD based on consultative advice from the SAB. In response to OSWER's request, the SAB Staff Office solicited public nominations (73 FR no 61, page 16679-80) of experts with specific experience in the microbiology of anthrax to augment the SAB Homeland Security Advisory Committee (HSAC), who will conduct the consultation. The purpose of the teleconference is for the NRT to brief the HSAC on the ERTAD.

Availability of Meeting Materials: EPA's background materials for this briefing will be posted on a link on the front page of National Response Team Web site at http://www.nrt.org—under the Hot Topics Section.

The EPA technical contact for the ERTAD is Captain Colleen F. Petullo, USPHS, detailed to EPA's Office of Solid Waste and Emergency Response. Captain Petullo may be contacted by telephone at (702) 784-8004 or via e-mail at petullo.colleen@epa.gov. The agenda and other briefing materials for the upcoming public meeting will be posted on the SAB Web site at http://www.epa.gov/sab.

Procedures for Providing Public Input: Interested members of the public may submit relevant written or oral information for the SAB Committee to consider on the topics under review. Oral Statements: In general, individuals or groups requesting an oral presentation at a public conference call will be limited to three minutes per speaker, with no more than a total of one half hour for all speakers. Interested parties should contact Ms. Turner, DFO, in writing (preferably via e-mail) at the contact information noted above, by October 10, 2008 to be placed on a list of public speakers for the meeting. Written Statements: Written statements should be received in the SAB Staff Office by October 10, 2008 so that the information may be made available to the SAB Panel members for their consideration. Written statements should be supplied to the DFO in the following formats: one hard copy with original signature, and one electronic copy via e-mail (acceptable file format: Adobe Acrobat PDF, WordPerfect, MS Word, MS PowerPoint, or Rich Text files in IBM-PC/Windows 98/2000/XP format).

Accessibility: For information on access or services for individuals with disabilities, please contact Ms. Turner at the phone number or e-mail address noted above, preferably at least ten days prior to the meeting to give EPA as much time as possible to process your request.

Dated: September 24, 2008.
Vanessa T. Vu,
Director, EPA Science Advisory Board Staff Office.

[FR Doc. E8-22791 Filed 9-26-08; 8:45 am]

BILLING CODE 6560-50-P